DEPARTMENT OF AGRICULTURE

Agricultural Marketing Service

[Doc. No. AMS-LS-07-0131; LS-07-16]

United States Standards for Livestock and Meat Marketing Claims, Naturally Raised Claim for Livestock and the Meat and Meat Products Derived From Such Livestock

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB), for a new information collection for CFR Part 62—Quality Systems Verification Program (QSVP). AMS established a voluntary standard for a naturally raised marketing claim that livestock producers may request to have verified by the Department of Agriculture (USDA). This standard will become effective once this information collection is approved by OMB. AMS verification of this claim would be accomplished through an audit of the production process in accordance with procedures that are contained in Part 62 of Title 7 of the Code of Federal Regulations (7 CFR part 62). After approval, AMS will submit a request to merge this information collection into the currently approved OMB Number 0581-0124, 7 CFR Part 54 Meats, Prepared Meats and Meat Products (Grading, Certification & Standards) and 7 CFR Part 62 Quality Systems Verification Program (QSVP).

DATES: Comments on this notice must be received on or before May 11, 2009 to be assured of consideration.

ADDRESSES: Interested persons are invited to submit written comments concerning this new information collection notice. Comments should be submitted through the Web site at http://www.regulations.gov. Send written comments to: New Information Collection for Naturally Raised Standard, Room 2607-S, AMS, USDA, 1400 Independence Avenue, SW., Washington, DC 20250-0254, or by facsimile to (202) 720-1112. All comments should reference the docket number AMS-LS-07-0131; LS-07-16. All comments received will be posted without change, including any personal information provided, on the Web site at http://www.regulations.gov and will be made available for public inspection at the above physical address during regular business hours.

SUPPLEMENTARY INFORMATION: Title: United States Standards for Livestock and Meat Marketing Claims, Naturally Raised Claim for Livestock and the Meat and Meat Products Derived from such Livestock.

OMB Number: 0581-NEW.

Expiration Date of Approval: Three years from date of OMB Approval.

Type of Request: New information collection.

Abstract: Section 203(c) of the Agricultural Marketing Act of 1946, as amended (7 U.S.C. 1621-1627), directs and authorizes the Secretary of Agriculture “to develop and improve standards of quality, condition, quantity, grade, and packaging, and recommend and demonstrate such standards in order to encourage uniformity and consistency in commercial practices.”

AMS established a voluntary standard for a naturally raised marketing claim that livestock producers may request to have verified by USDA (see 74 FR 3541). AMS verification of this claim would be accomplished through an audit of the production process in accordance with procedures that are contained in 7 CFR part 62.

The application for verification services requests the USDA employees to perform such services at the designated location. The information contained on the applications constitutes an agreement between USDA and the requesting entity.

QSVP are a collection of voluntary, audit-based, user-fee funded programs that allow applicants to have program documentation and program processes assessed by AMS auditor(s) and other USDA officials. QSVP are user-fees based on the approved hourly rate established under 7 CFR part 62. Applicants (individual or business with financial interest in the product) may request services through the submission of Form-313 “Application for Service.” In addition to the application for service, applicant would have to develop a technical proposal documenting their quality management system.

Estimate of Burden: Public reporting burden for this collection of information is estimated to average 11 hours per response including documentation needed to conform to audit requirements.

Respondents: Livestock and meat industry or other for-profit businesses.

Estimated Number of Respondents: 20 respondents.

Estimated Number of Responses: 44 responses.

Estimated Number of Responses per Respondent: 2 responses.

Estimated Total Annual Burden on Respondents: 483 hours. (Due to averaging, the total annual burden hours may not equal the product of the annual number of responses multiplied by the reporting burden per response.)

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical or other technological collection techniques or other forms of information technology.

All responses to this notice will be summarized and included in the request for OMB approval. All comments will become a matter of public record.

Dated: March 5, 2009.
Robert C. Keeney,
Acting Associate Administrator, Agricultural Marketing Service.

[FR Doc. E9-5122 Filed 3-10-09; 8:45 am]

BILLING CODE 3410-02-P